FEDERAL TRADE COMMISSION

16 CFR Part 301

Rules and Regulations Under the Fur Products Labeling Act

AGENCY: Federal Trade Commission.

ACTION: Final rule.

SUMMARY: The Federal Trade Commission (FTC or Commission) amends the Rules and Regulations under the Fur Products Labeling Act (Fur Rules) pursuant to the Dog and Cat Protection Act of 2000. That Act prohibits importing, exporting, manufacturing, selling, advertising, transporting, or distributing any dog or cat fur product. The Dog and Cat Protection Act also amends the Fur Act to exclude dog and cat fur products from items the Commission may exempt from Fur Act requirements because they contain only a small amount of fur. The amendments announced herein conform the Fur Rules to the amended Fur Act by making clear that the exemption from the Fur Act does not apply to dog and cat fur products. Because the amendments are technical in nature and merely incorporate the statutory change, the Commission finds that notice and comment are not required. See 5 U.S.C. 553(b). For this reason, the requirements of the Regulatory Flexibility Act also do not apply. See 5 U.S.C. 603, 604.

EFFECTIVE DATE: The amended Rules are effective January 29, 2001.

ADDRESSES: Requests for copies of the amended Rules should be sent to the Consumer Response Center, Room 202, Federal Trade Commission, 600 Pennsylvania Avenue, NW, Washington, DC 20580. The notice announcing the amendments is available on the Internet at the Commission's website: http://www.ftc.gov.

FOR FURTHER INFORMATION CONTACT: Carol Jennings, Attorney, (202) 326-3010, cjennings@ftc.gov, or Stephen Ecklund, Senior Investigator, (202) 326-2841, secklund@ftc.gov, Division of Enforcement, Bureau of Consumer Protection, Federal Trade Commission, 600 Pennsylvania Avenue NW, Washington, DC 20580.

SUPPLEMENTARY INFORMATION: The Fur Products Labeling Act (Fur Act), 15 U.S.C. 69, and Commission rules pursuant to the Act, 16 CFR Part 301, require that sellers of covered fur products mark each product to show: (1) The name of the animal that produced the fur; (2) that the fur product contains or is composed of used fur, if such is the fact; (3) that the fur product contains or is composed of artificially colored fur, if such is the fact; (4) that the fur product is composed in whole or in substantial part of paws, tails, bellies, or waste fur, if such is the fact; (5) the name under which the manufacturer or other responsible company does business, or in lieu thereof, the RN issued to the company by the Commission; and (6) the country of origin of imported furs. The statute and rules also include advertising and recordkeeping requirements. The Fur Act authorizes the Commission to exempt products containing a relatively small amount or value of fur. Accordingly, section 301.39(a) of the Fur Rules exempts from rule requirements fur products for which either the cost to the manufacturer of the fur contained in the product or the manufacturer's selling price of the product does not exceed $150.¹

¹ In 1998, the exemption amount was raised from $20 (set in 1969) to the current level of $150. 63 FR 7508, 7514 (Feb. 13, 1998).

The Dog and Cat Protection Act of 2000, Pub. L. 106-476, prohibits importing, exporting, manufacturing, selling, advertising, transporting, or distributing any dog or cat fur product. Violations may result in the imposition of civil penalties ranging from $3,000 to $10,000 for each separate violation; forfeiture of the illegal products; and debarment from importing, exporting, manufacturing, transporting, distributing, or selling any fur product in the U.S.

In addition, the Dog and Cat Protection Act amends the Fur Act, 16 U.S.C. 69(d), to exclude dog and cat fur products from those items the Commission is authorized to exempt from the labeling and other requirements of the Fur Act and implementing regulations. The amendments to the Fur Rules announced herein implement this amendment to the Fur Act.

List of Subjects in 16 CFR Part 301

Furs, Labeling, Trade Practices.

For the reasons set forth above, the Commission amends 16 CFR Part 301 as follows:

PART 301—RULES AND REGULATIONS UNDER THE FUR PRODUCTS LABELING ACT

1. The authority citation for Part 301 continues to read as follows:

Authority: 15 U.S.C. 69 et seq.

2. Section 301.1(a) is amended by adding paragraphs (6), (7), and (8) to read as follows:

§ 301.1 Terms defined.

(a) * * *

(6) The term cat fur means the pelt or skin of any animal of the species Felis catus.

(7) The term dog fur means the pelt or skin of any animal of the species Canis familiaris.

(8) The term dog or cat fur product means any item of merchandise which consists, or is composed in whole or in part, of any dog fur, cat fur, or both.

3. In § 301.39, the second sentence of paragraph (a) is revised to read as follows:

§ 301.39 Exempted fur products.

(a) * * * The exemption provided for herein shall not be applicable: (1) to any dog or cat fur product; (2) if any false, deceptive, or misleading representations as to the fur contained in the fur product are made; or (3) if any representations as to the fur are made in labeling, invoicing, or advertising without disclosing: (i) in the case of labels, the information required to be disclosed under section 4(2)(A), (C), and (D) of the Act; (ii) in the case of advertising, the information required to be disclosed under section 5(a)(1), (3), and (4) of the Act; and (iii) in the case of invoicing, the information required to be disclosed under section 5(b)(1)(A), (C), and (D) of the Act.

* * * * *

By direction of the Commission.
Donald S. Clark,
Secretary.

[FR Doc. 00-33026 Filed 12-27-00; 8:45 am]

BILLING CODE 6750-01-M